DEPARTMENT OF THE INTERIOR

National Park Service

[N6359; NPS-WASO-NAGPRA-NPS0040616; PPWOCRADN0-PCU00RP14.R50000]

Notice of Inventory Completion: Sam Noble Oklahoma Museum of Natural History, University of Oklahoma, Norman, OK

AGENCY: National Park Service, Interior.

ACTION: Notice.

SUMMARY: In accordance with the Native American Graves Protection and Repatriation Act (NAGPRA), the Sam Noble Oklahoma Museum of Natural History (SNOMNH), has completed an inventory of associated funerary objects and has determined that there is a cultural affiliation between the associated funerary objects and Indian Tribes or Native Hawaiian organizations in this notice.

DATES: Repatriation of the associated funerary objects in this notice may occur on or after August 28, 2025.

ADDRESSES: Send written requests for repatriation of the associated funerary objects in this notice to Zachary Garrett, NAGPRA Program Coordinator, Sam Noble Oklahoma Museum of Natural History, University of Oklahoma, 2401 Chautauqua Avenue, Norman, OK 73072-7029, email zacgarrett@ou.edu.

SUPPLEMENTARY INFORMATION: This notice is published as part of the National Park Service's administrative responsibilities under NAGPRA. The determinations in this notice are the sole responsibility of SNOMNH, and additional information on the determinations in this notice, including the results of consultation, can be found in its inventory or related records. The National Park Service is not responsible for the determinations in this notice.

Abstract of Information Available

One associated funerary object was removed from the Heerwald/Jordan site (34CU27), in Custer County, OK. The one associated funerary object is one lot of ceramic vessels. This list of objects is an addition to a group of associated funerary objects previously identified in a Notice of Inventory Completion published in the Federal Register on November 1, 2017 (82 FR 50667).

This site is on private land on a ridge south of Turkey Creek, a tributary of the Washita River. This object was removed by James Schaeffer of the Highway Salvage Archaeology program in 1957, when I-40 was constructed south of old US 66, and was subsequently donated to the Museum. This site is from the Plains Village Period, Washita River phase (approximately 1250-1400 CE). This phase demonstrates continuity in material culture with known groups of the Wichita and Affiliated Tribes. Oral history as well as post-contact records support the presence of the Wichita in this area. To our knowledge, no potentially hazardous chemicals were used to treat the associated funerary objects.

One associated funerary object was removed from the Brewer site (34ML3), in McClain County, OK. The one associated funerary object is one lot of ceramic vessels. This list of objects is an addition to a group of associated funerary objects previously identified in a Notice of Inventory Completion published in the Federal Register on November 1, 2017 (82 FR 50667).

This site on the south bank of the Canadian River was originally surveyed and recorded in 1950, by the University of Oklahoma. William Villines of Rosedale, OK, brought a collection from the site to the Department of Anthropology at the University in 1951. In 1986, additional collections were removed by Richard Drass, Robert Brooks, and Alan Wormser of the Oklahoma Archeological Survey, after more material was exposed by oil well workers. The collections were accessioned by the Museum in 1953 and 1988. This is a Paoli phase (900-1250 CE) settlement. The Paoli phase demonstrates continuity in the material culture with the subsequent Washita River phase and later known groups of the Wichita and Affiliated Tribes. Oral history as well as post-contact records support the presence of the Wichita in this area. To our knowledge, no potentially hazardous chemicals were used to treat the associated funerary objects.

Cultural Affiliation

Based on the information available and the results of consultation, cultural affiliation is clearly identified by the information available about the associated funerary objects described in this notice.

Determinations

SNOMNH has determined that:

• The two objects described in this notice are reasonably believed to have been placed intentionally with or near individual human remains at the time of death or later as part of the death rite or ceremony.

• There is a connection between the associated funerary objects described in this notice and the Wichita and Affiliated Tribes (Wichita, Keechi, Waco, & Tawakonie), Oklahoma.

Requests for Repatriation

Written requests for repatriation of the associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the associated funerary objects described in this notice to a requestor may occur on or after August 28, 2025. If competing requests for repatriation are received, SNOMNH must determine the most appropriate requestor prior to repatriation. Requests for joint repatriation of the associated funerary objects are considered a single request and not competing requests. SNOMNH is responsible for sending a copy of this notice to the Indian Tribes and Native Hawaiian organizations identified in this notice and any other consulting parties.

Authority: Native American Graves Protection and Repatriation Act, 25 U.S.C. 3003, and the implementing regulations, 43 CFR 10.10.

Dated: July 9, 2025.
Melanie O'Brien,
Manager, National NAGPRA Program.

[FR Doc. 2025-14279 Filed 7-28-25; 8:45 am]

BILLING CODE 4312-52-P